DEPARTMENT OF THE INTERIOR

Bureau of Land Management

[LLCON00000-L18200000.XX0000-18X]

Notice of Public Meeting, Northwest Resource Advisory Council, Colorado

AGENCY: Bureau of Land Management, Interior.

ACTION: Notice of public meeting.

SUMMARY: In accordance with the Federal Land Policy and Management Act of 1976 and the Federal Advisory Committee Act of 1972, the U.S. Department of the Interior, Bureau of Land Management (BLM) Northwest Resource Advisory Council (RAC) will meet as indicated below.

DATES: The meeting will be held on December 6, 2018, from 8 a.m. to 3 p.m.

ADDRESSES: The meeting will be held at the BLM Colorado River Valley Field Office, 2300 River Frontage Road, Silt, Colorado 81652.

FOR FURTHER INFORMATION CONTACT: David Boyd, Public Affairs Specialist, Northwest District Office, 2300 River Frontage Road, Silt, CO 81652 by phone at (970) 876-9008 or by email at dboyd@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Northwest Colorado RAC advises the Secretary of the Interior, through the BLM, on a variety of public land issues in the Northwest District including the Colorado River Valley, Kremmling, Little Snake and White River Field Offices. Agenda items for this meeting include wild horse management, public land tenure overview, locatable mineral management, consideration of a letter supporting fire mitigation, and District and Field Manager updates. This meeting is open to the public, and public comment periods will be held at 10 a.m. and 2 p.m. Depending on the number of persons wishing to comment and time available, the time for individual oral comments may be limited. The public may present written comments to the NW RAC. Before including your address, phone number, email address, or other personally identifiable information (PII) in your comment, you should be aware that your entire comment—including your PII—may be made publicly available at any time. While you can ask us in your comment to withhold your PII from public review, we cannot guarantee that we will be able to do so.

Summary minutes for the RAC meetings will be maintained in the Northwest District Office and will be available for public inspection and reproduction during regular business hours within 30 days following the meeting. Previous minutes and agendas are available at: https://www.blm.gov/get-involved/resource-advisory-council/near-you/colorado/northwest-rac for reference.

Gregory Shoop,
Acting BLM Colorado State Director.

[FR Doc. 2018-23550 Filed 10-26-18; 8:45 am]

BILLING CODE 4310-JB-P